DEPARTMENT OF THE INTERIOR

Office of the Secretary

[212D0102DM/DS64600000/DLSN00000.000000/DX.64601]

Notice of Senior Executive Service Performance Review Board Appointments

AGENCY: Office of the Secretary, Interior.

ACTION: Notice of Appointments.

SUMMARY: This notice provides the names of individuals appointed to serve on the Department of the Interior Senior Executive Service (SES) Performance Review Board.

DATES: These appointments take effect upon publication in the Federal Register.

FOR FURTHER INFORMATION CONTACT: To request additional information about this notice, contact Raymond Limon, Deputy Assistant Secretary—Human Capital and Diversity/Chief Human Capital Officer, by email at Raymond_Limon@ios.doi.gov, or by telephone at (202) 208-3100.

SUPPLEMENTARY INFORMATION: The individuals appointed to serve on the Department of the Interior SES Performance Review Board are as follows:

BARRETT, ANNE MICHELE

BEARQUIVER, KEVIN T.

BOCKMIER, JOHN M.

BUCKNER, SHAWN M.

GRAY, LORRI J.

HAMBLETON, RYAN M.

JORGENSON, SARAH T.

KEABLE, EDWARD T.

ROMANIK, PEG A.

SHOPE, THOMAS D.

SUAZO, RAYMOND

WEBER, WENDI

Authority: Title 5, U.S. Code, 4314

Raymond Limon,
Deputy Assistant Secretary—Human Capital and Diversity Chief Human Capital Officer.

[FR Doc. 2020-27285 Filed 12-10-20; 8:45 am]

BILLING CODE 4334-63-P